DEPARTMENT OF THE INTERIOR

Bureau of Ocean Energy Management

[OMB Control Number 1010-0072; Docket ID: BOEM-2024-0007]

Agency Information Collection Activities; Commercial Prospecting, Noncommercial Exploration, and Scientific Research for Minerals Other Than Oil, Gas, and Sulfur on the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0072 with revisions.

DATES: Comments must be received by the OMB desk officer no later than December 9, 2024.

ADDRESSES: Submit your written comments on this ICR to the OMB's desk officer for the Department of the Interior at www.reginfo.gov/public/do/PRAMain. From the www.reginfo.gov/public/do/PRAMain landing page, find this information collection by selecting “Currently under Review—Open for Public Comments” or by using the search function. Please provide a copy of your comments by parcel delivery service or U.S. mail to the BOEM Information Collection Clearance Officer, Anna Atkinson, Bureau of Ocean Energy Management, 45600 Woodland Road, Sterling, Virginia 20166; or by email to anna.atkinson@boem.gov. Please reference OMB Control Number 1010-0072 in the subject line of your comments.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

Title of Collection: Commercial Prospecting, Noncommercial Exploration, and Scientific Research for Minerals Other Than Oil, Gas, and Sulfur on the Outer Continental Shelf (Applicable, in part, to 30 CFR part 580).

Abstract: This ICR covers the information collection requirements in 30 CFR part 580, “Prospecting for Minerals Other than Oil, Gas, and Sulphur ¹ on the Outer Continental Shelf [OCS],” which involves commercial prospecting and scientific research. This request also includes information collection requirements related to authorizations of noncommercial geological and geophysical (G&G) exploration issued pursuant to section 11 of the Outer Continental Shelf Lands Act (OCSLA). 43 U.S.C. 1340.

¹ BOEM acknowledges that the generally and scientifically accepted spelling for this compound is sulfur. Throughout this notice, BOEM uses the spelling consistent with its current regulations.

Section 11(a)(1) of the OCSLA states that “any person authorized by the Secretary [of the Interior] may conduct geological and geophysical explorations in the Outer Continental Shelf, which do not interfere with or endanger actual operations under any lease maintained or granted pursuant to this subchapter, and which are not unduly harmful to aquatic life in such area.” See 43 U.S.C. 1340(a)(1). The OCSLA defines the term “exploration” to mean the process of searching for minerals by, among other things, “geophysical surveys where magnetic, gravity, seismic, or other systems are used to detect or imply the presence of such minerals.” See 43 U.S.C. 1331(k). Section 11(g) authorizes permits or authorizations for geological exploration only if the Secretary determines that the applicant is qualified and the exploration will not interfere with operations on an existing lease, unduly harm aquatic life in the area, result in pollution, create hazardous or unsafe conditions, unreasonably interfere with other uses of the area, nor disturb any site, structure, or object of historical or archaeological significance. See 43 U.S.C. 1340(g).

BOEM considers applications for commercial prospecting and noncommercial exploration for marine minerals, as well as scientific research related to marine minerals. Under 30 CFR part 580, G&G prospecting by any person on unleased lands or on lands leased to a third party requires a BOEM permit. A permit also is required to conduct scientific research activities that involve the use of solid or liquid explosives, the drilling of a deep stratigraphic test, or the development of data and information for proprietary use or sale. See 30 CFR 580.11(a). Otherwise, G&G activities conducted for scientific or academic purposes require only the submission of a scientific research notice. See 30 CFR 580.11(b). G&G activities are also conducted for noncommercial exploration purposes and may include, for example, searching for sand, gravel, and other sources of sediment for potential use in qualifying beach nourishment and coastal restoration projects. See 43 U.S.C. 1337(k). Because 30 CFR part 580 does not apply to noncommercial exploration, such G&G activities would be authorized directly pursuant to section 11 of the OCSLA.

As a Federal agency, BOEM must comply with the National Environmental Policy Act (42 U.S.C. 4321 et seq.), Endangered Species Act (16 U.S.C. 1531 et seq.), and National Historic Preservation Act (54 U.S.C. 300101 et seq.), among other laws. Compliance with the Endangered Species Act requires BOEM to carry out any agency action in a manner that is not likely to jeopardize protected species or adversely modify designated critical habitat and to consult with the U.S. Fish and Wildlife Service and National Marine Fisheries Service, as applicable, before engaging in a discretionary action that may affect a protected species.

Applicants must submit Form BOEM-0134, “Requirements for Geological and Geophysical Prospecting, Exploration, or Scientific Research on the Outer Continental Shelf Related to Minerals Other than Oil, Gas, and Sulphur,” to provide the information necessary to evaluate their requests to conduct G&G activities for commercial prospecting, noncommercial exploration, and certain scientific research activities that do not involve explosives, deep stratigraphic drilling, or proprietary interests in the collected data. BOEM uses the submitted information for several purposes: (1) to ensure there will be no undue adverse effects to the marine, coastal, or human environment, personal harm, unsafe operations and conditions, nor unreasonable interferences with other uses; (2) to enhance personal and operational safety; (3) to analyze and evaluate preliminary or planned mining activities; (4) to monitor progress and activities on the OCS; (5) to acquire G&G data and information collected under a Federal permit or authorization; and (6) to determine eligibility for reimbursement from the Government for certain costs.

Upon approval, BOEM issues applicants a permit or an authorization (as currently titled Form BOEM-0135, “Permit for Geophysical Prospecting, Authorization for Noncommercial Geophysical Exploration, or Permit for Scientific Research for Minerals Other than Oil, Gas, and Sulphur on the Outer Continental Shelf,” or Form BOEM-0136, “Permit for Geological Prospecting, Authorization for Noncommercial Geological Exploration, or Permit for Scientific Research for Minerals Other than Oil, Gas, and Sulphur on the Outer Continental Shelf”).

BOEM may use the data and information collected during G&G activities to understand the characteristics of marine mineral-bearing physiographic regions of the OCS. The data and information aids BOEM in analyzing and weighing the potential for environmental damage, the discovery of marine minerals, and any associated impacts on adjacent coastal States.

OMB Control Number: 1010-0072.

Form Number: BOEM-0134, “Requirements for Geological and Geophysical Prospecting, Exploration, or Scientific Research on the OCS Related to Minerals Other than Oil, Gas, and Sulphur.”

The following forms are the permit forms issued by BOEM based on information provided in BOEM-0134:

BOEM-0135, “Permit for Geophysical Prospecting, Authorization for Noncommercial Geophysical Exploration, or Permit for Scientific Research for Minerals Other than Oil, Gas, and Sulphur on the Outer Continental Shelf.”

BOEM-0136, “Permit for Geological Prospecting, Authorization for Noncommercial Geological Exploration, or Permit for Scientific Research for Minerals Other than Oil, Gas, and Sulphur on the Outer Continental Shelf.”

Type of Review: Revision of a currently approved information collection.

Respondents/Affected Public: Permittees, applicants, and other respondents, including those required to only file notices (scientific research).

Total Estimated Number of Annual Responses: 45 responses.

Total Estimated Number of Annual Burden Hours: 826 hours.

Respondent's Obligation: Mandatory or required to retain or obtain a benefit.

Frequency of Collection: On occasion, annual, or as specified in permits.

Total Estimated Annual Non-Hour Cost Burden: $4,024 non-hour cost burden.

The current approved annual burden hours are equal to 730 hours. This ICR increases annual burdens by 96 hours to a total of 826 hours, based on BOEM's recent collection of data and information. The changes in annual burden hours include the following:

• For subpart B, BOEM is increasing the annual burden hours from 24 to 72 hours, due to an increase in the estimated time needed to file a notice to conduct scientific research activities related to hard minerals (+48 hours).

• For subpart D, BOEM is increasing annual burden hours from 40 to 96 hours, due to an increase in the estimated time per response (from 8 to 16 hours per response) and an increase in the number of submissions for notification and submission of G&G data and information from 5 submissions to 6 (+56 hours).

• For subpart D, BOEM is also decreasing annual burden hours from 8 to 4 hours, due to a reduction in the number of submissions of G&G data and information related to a contractor's commitment not to sell, trade, license, or disclose data from 2 submissions to 1 (−4 hours).

• BOEM is also decreasing annual burden hours from 6 to 2 hours, due to a decrease in the number of respondents required by the issued permits to retain G&G data and information from 6 respondents to 2 (−4 hours).

A Federal Register notice with a 60-day public comment period on the proposed ICR was published on June 24, 2024 (89 FR 52501). BOEM received two comments. One commenter opposes the disturbance to the ocean floor, and the other does not support the granting of permits due to environmental impacts. These comments do not change the purpose of or need for the ICR, nor does it affect the cost or hour burden.

BOEM is again soliciting comments on the proposed ICR. BOEM is especially interested in public comments addressing the following issues:

(1) Is the collection necessary to the proper functions of BOEM?

(2) What can BOEM do to ensure that this information is processed and used in a timely manner?

(3) Is the burden estimate accurate?

(4) How might BOEM enhance the quality, utility, and clarity of the information to be collected?

(5) How might BOEM minimize the burden of this collection on the respondents, including minimizing the burden through the use of information technology?

Comments that you submit in response to this notice are a matter of public record and will be available for public review on www.reginfo.gov. BOEM will include or summarize each comment in its ICR to OMB for approval of this information collection. You should be aware that your entire comment—including your address, phone number, email address, or other personally identifiable information included in your comment—may be made publicly available at any time. Even if BOEM withholds your personally identifiable information in the context of this ICR, your comment is subject to the Freedom of Information Act (FOIA) (5 U.S.C. 552). Your information will only be withheld if a determination is made that one of the FOIA exemptions to disclosure applies. Such a determination will be made in accordance with the Department of the Interior's (DOI) FOIA implementing regulations (43 CFR part 2) and applicable law.

For BOEM to consider withholding from disclosure your personally identifiable information, you must identify, in a cover letter, any information contained in the submittal of your comments that, if released, would constitute a clearly unwarranted invasion of your personal privacy. You must also briefly describe any possible harmful consequences of the disclosure of information, such as embarrassment, injury, or other harm. BOEM will make available for public inspection, in their entirety, all comments submitted by organizations and businesses, or by individuals identifying themselves as representatives of organizations or businesses.

BOEM protects proprietary information in accordance with the Freedom of Information Act (5 U.S.C. 552), DOI's implementing regulations (43 CFR part 2), and 30 CFR part 581.7, promulgated pursuant to the OCSLA) (43 U.S.C. 1352(c)).

An agency may not conduct or sponsor, and a person is not required to respond to, a collection of information unless it displays a currently valid OMB control number.

The authority for this action is the Paperwork Reduction Act of 1995 (44 U.S.C. 3501 et seq.).

Karen Thundiyil,
Director, Office of Regulatory Affairs, Bureau of Ocean Energy Management.

[FR Doc. 2024-26064 Filed 11-7-24; 8:45 am]

BILLING CODE 4340-98-P